DEPARTMENT OF VETERANS AFFAIRS

[OMB Control No. 2900-0156]

Agency Information Collection Activity Under OMB Review: Notice of Change in Student Status

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0156”.

FOR FURTHER INFORMATION CONTACT: Maribel Aponte, Office of Enterprise and Integration, Data Governance Analytics (008), 1717 H Street NW, Washington, DC 20006, (202) 266-4688 or email maribel.aponte@va.gov. Please refer to “OMB Control No. 2900-0156” in any correspondence.

SUPPLEMENTARY INFORMATION: Authority: 38 U.S.C. 3020, 3034(a), 3241, 3323(a), 3474, 3524, 3680(a), 3684(a); 10 U.S.C. 510, and 16136. 38 Code of Federal Regulations 21.4203, 21.5200(d), 21.5292(e)(2), 21.5812, 21.7156, 21.7656, 21.9720, and 21.9725.

Title: Notice of Change in Student Status.

OMB Control Number: 2900-0156.

Type of Review: Revision of a currently approved collection.

Abstract: VA uses the information collected to determine whether the beneficiaries' educational benefits should be increased, decreased, or terminated, and the effective date of the change, if applicable. Without this information, VA might underpay or overpay benefits. An agency may not conduct or sponsor, and a person is not required to respond to a collection of information unless it displays a currently valid OMB control number. The Federal Register Notice with a 60-day comment period soliciting comments on this collection of information was published at 86 FR 77 on September 3, 2021, page 49600.

Affected Public: Individuals or Households.

Estimated Annual Burden: 1,124,027 hours.

Estimated Average Burden per Respondent: 10 minutes.

Frequency of Response: On occasion.

Estimated Number of Respondents: 6,744,167.

By direction of the Secretary.
Maribel Aponte,
VA PRA Clearance Officer, Office of Enterprise and Integration, Data Governance Analytics, Department of Veterans Affairs.

[FR Doc. 2021-24409 Filed 11-8-21; 8:45 am]

BILLING CODE 8320-01-P